DEPARTMENT OF HEALTH AND HUMAN SERVICES

National Institutes of Health

National Institute of General Medical Sciences; Amended Notice of Meeting

Notice is hereby given of a change in the meeting of the Biomedical Research and Research Training Review Subcommittee B, November 14, 2000, 8 AM to November 15, 2000, 5 PM, Holiday Inn Chevy Chase, 5520 Wisconsin Avenue, Chevy Chase, MD, 20815 which was published in the Federal Register on September 21, 2000, 65 FR 57199.

The meeting will be held at the Holiday Inn Bethesda, 8120 Wisconsin Avenue, Bethesda, MD 20814. The meeting is closed to the public.

Dated: October 25, 2000.
LaVerne Y. Stringfield,
Director, Office of Federal Advisory Committee Policy.

[FR Doc. 00-28109 Filed 11-01-00; 8:45 am]

BILLING CODE 4140-01-M